DEPARTMENT OF HEALTH AND HUMAN SERVICES

Office of Global Affairs; Stakeholder Listening Session in preparation for the 76th World Health Assembly

ACTION: Notice of public listening session; request for comments.

Time and date: The listening session will be held Wednesday, May 3, 2023, from 10:00 a.m. to 12:00 p.m., Eastern Daylight Time.

Place: The session will be held virtually, with online and dial-in information shared with registered participants.

Status: This session is open to the public but requires RSVP to oga.rsvp@hhs.gov by Friday, April 20, 2023. See RSVP section below for details.

SUPPLEMENTARY INFORMATION:

Purpose: The U.S. Department of Health and Human Services (HHS) is charged with leading the U.S. delegation to the 76th World Health Assembly and will convene a Stakeholder Listening Session.

The World Health Assembly is the decision-making body of WHO. It is attended by delegations from all WHO Member States and focuses on a health agenda prepared by the World Health Organization Executive Board. The main functions of the World Health Assembly are to determine the policies of the Organization, appoint the Director-General, supervise financial policies, and review and approve the proposed programme budget.

The Stakeholder Listening Session is designed to seek input from stakeholders and subject matter experts to help inform and prepare for U.S. government engagement with the World Health Assembly.

Matters to be Discussed: The listening session will discuss resolutions and other decisions to be covered at the 76th World Health Assembly. Topics will include those found in the agenda and will be organized by agenda item. A provisional agenda of the 76th World Health Assembly can be found at: https://apps.who.int/gb/ebwha/pdf_files/EB152/B152(20)-en.pdf. Additional information about the World Health Assembly can be found at: https://www.who.int/about/governance/world-health-assembly. Participation is welcome from all stakeholder communities.

RSVP: Persons seeking to participate in the listening session must register by April 20, 2023.

Registrants must include their full name, email address, and organization, if any, and indicate whether they are registering as a listen-only attendee or as a speaker participant to oga.rsvp@hhs.gov.

Requests to participate as a speaker must include all of the following information:

1. The name and email address of the person desiring to participate

2. The organization(s) that person represents, if any

3. Identification of agenda item(s) of interest

Other Information: This listening session will be recorded for the benefit of the members of the US Government who will participate in WHA76.

Written comments should be emailed to oga.rsvp@hhs.gov with the subject line “Written Comment Re: Stakeholder Listening Session for WHA76” by Wednesday, May 10, 2023.

We look forward to your comments on the 76th World Health Assembly.

Dated: March 20,2023.
Susan Kim,
Chief of Staff, Office of Global Affairs.

[FR Doc. 2023-07562 Filed 4-10-23; 8:45 am]

BILLING CODE 4150-38-P